DEPARTMENT OF ENERGY

Federal Energy Regulatory Commission

Combined Notice of Filings #1

Take notice that the Commission received the following electric corporate filings:

Docket Numbers: EC12-45-000.

Applicants: South Carolina Electric & Gas Company.

Description: Application for Authorization under Section 203 of the Federal Power Act for Acquisition of Jurisdictional Facilities of South Carolina Electric & Gas Company.

Filed Date: 12/7/11.

Accession Number: 20111207-5183.

Comments Due: 5 p.m. ET 12/28/11.

Take notice that the Commission received the following electric rate filings:

Docket Numbers: ER12-348-000.

Applicants: Mercuria Energy America, Inc.

Description: Mercuria Energy America, Inc. Submits Clarification and Affirmation Regarding Erected barriers to entry.

Filed Date: 11/10/11.

Accession Number: 20111110-5143.

Comments Due: 5 p.m. ET 12/9/11.

Docket Numbers: ER12-569-000.

Applicants: Blackwell Wind, LLC.

Description: Blackwell Wind, LLC Market-Based Rate Tariff to be effective 2/5/2012.

Filed Date: 12/7/11.

Accession Number: 20111207-5116.

Comments Due: 5 p.m. ET 12/28/11.

Docket Numbers: ER12-570-000.

Applicants: Sandy Ridge Wind, LLC.

Description: Request for Category 1 Seller Status to be effective 12/8/2011.

Filed Date: 12/7/11.

Accession Number: 20111207-5134.

Comments Due: 5 p.m. ET 12/28/11.

Docket Numbers: ER12-571-000.

Applicants: Chestnut Flats Wind, LLC.

Description: Request for Category 1 Seller Status to be effective 12/8/2011.

Filed Date: 12/7/11.

Accession Number: 20111207-5140.

Comments Due: 5 p.m. ET 12/28/11.

Docket Numbers: ER12-572-000.

Applicants: Fowler Ridge III Wind Farm LLC.

Description: Certificate of Concurrence to be effective 8/18/2010.

Filed Date: 12/7/11.

Accession Number: 20111207-5152.

Comments Due: 5 p.m. ET 12/28/11.

Docket Numbers: ER12-573-000.

Applicants: Pacific Gas and Electric Company.

Description: Transmission Access Charge Balancing Account Adjustment (TACBAA) 2012 to be effective 3/1/2012.

Filed Date: 12/7/11.

Accession Number: 20111207-5153.

Comments Due: 5 p.m. ET 12/28/11.

Docket Numbers: ER12-574-000.

Applicants: ITC Midwest LLC.

Description: Filing of a Contribution in Aid of Construction Agreement to be effective 2/6/2012.

Filed Date: 12/7/11.

Accession Number: 20111207-5154.

Comments Due: 5 p.m. ET 12/28/11.

Docket Numbers: ER12-575-000.

Applicants: Alabama Power Company.

Description: Alabama Power Company submits tariff filing per 35.13(a)(2)(iii: SWE (Tombigbee) NITSA Filing to be effective 1/1/2012.

Filed Date: 12/7/11.

Accession Number: 20111207-5156.

Comments Due: 5 p.m. ET 12/28/11.

Docket Numbers: ER12-576-000.

Applicants: Northeast Utilities Service Company.

Description: Northeast Utilities Service Company; Notice of Cancellation of Service Agreements.

Filed Date: 12/7/11.

Accession Number: 20111207-5184.

Comments Due: 5 p.m. ET 12/28/11.

Take notice that the Commission received the following public utility holding company filings:

Docket Numbers: PH12-4-000.

Applicants: Fidelity Management & Research Company.

Description: FERC-65A Exemption Notification of Fidelity Management & Research Company.

Filed Date: 12/7/11.

Accession Number: 20111207-5181.

Comments Due: 5 p.m. ET 12/28/11.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 8, 2011.
Nathaniel J. Davis, Sr.,
Deputy Secretary.

[FR Doc. 2011-32146 Filed 12-14-11; 8:45 am]

BILLING CODE 6717-01-P